DEPARTMENT OF COMMERCE

Bureau of Industry and Security

15 CFR Part 744

[Docket No. 190814-0013]

RIN 0694-AH86

Addition of Certain Entities to the Entity List and Revision of Entries on the Entity List

AGENCY: Bureau of Industry and Security, Commerce.

ACTION: Final rule.

SUMMARY: Huawei Technologies Co., Ltd. (Huawei) and sixty-eight of its non-U.S. affiliates were added to the Entity List effective May 16, 2019. Their addition to the Entity List imposed a licensing requirement under the Export Administration Regulations (EAR) regarding the export, reexport, or transfer (in-country) of any item subject to the EAR to any of these sixty-nine listed Huawei entities. The Bureau of Industry and Security (BIS) is now adding forty-six additional non-U.S. affiliates of Huawei to the Entity List because they also pose a significant risk of involvement in activities contrary to the national security or foreign policy interests of the United States. Nineteen of these forty-six affiliated entities are being added to the existing entry for Huawei; the other twenty-seven entities are being added under new, separate entries. This rule also modifies the existing entries for Huawei and three Huawei affiliates in China by moving the three affiliates under the entry for Huawei instead of continuing to list them under separate entries, and by adding one alias and four addresses to the Huawei entry, including the addresses for those three affiliates. The entries for five other existing entries for Huawei affiliates in China, Belgium, and Brazil are also being modified by this rule.

DATES: This rule is effective August 19, 2019.

FOR FURTHER INFORMATION CONTACT: Director, Office of Exporter Services, Bureau of Industry and Security, Department of Commerce, Phone: (949) 660-0144 or (408) 998-8806 or email your inquiry to: ECDOEXS@bis.doc.gov.

SUPPLEMENTARY INFORMATION:

Background

The Entity List (Supplement No. 4 to part 744 of the Export Administration Regulations (EAR)) identifies entities for which there is reasonable cause to believe, based on specific and articulable facts, that have been involved, are involved, or pose a significant risk of being or becoming involved in activities contrary to the national security or foreign policy interests of the United States. The EAR (15 CFR parts 730-774) impose additional license requirements on, and limit the availability of all or most license exceptions for, exports, reexports, and transfers (in-country) to listed entities. The license review policy for each listed entity is identified in the “License review policy” column on the Entity List, and the impact on the availability of license exceptions is described in the relevant Federal Registernotice adding entities to the Entity List. BIS places entities on the Entity List pursuant to part 744 (Control Policy: End-User and End-Use Based) and part 746 (Embargoes and Other Special Controls) of the EAR.

The End-User Review Committee (ERC), composed of representatives of the Departments of Commerce (Chair), State, Defense, Energy and, where appropriate, the Treasury, makes all decisions regarding additions to, removals from, or other modifications to the Entity List. The ERC makes all decisions to add an entry to the Entity List by majority vote and all decisions to remove or modify an entry by unanimous vote.

ERC Entity List Decisions

Additions to the Entity List

Under § 744.11(b) (Criteria for revising the Entity List) of the EAR, an entity for which there is reasonable cause to believe, based on specific and articulable facts, that the entity has been involved, is involved, or poses a significant risk of being or becoming involved in activities that are contrary to the national security or foreign policy interests of the United States, and those acting on behalf of such entities, may be added to the Entity List. Paragraphs (b)(1) through (b)(5) of § 744.11 provide an illustrative list of activities that could be contrary to the national security or foreign policy interests of the United States.

As stated in the rule published on May 21, 2019 (84 FR 22961), and effective May 16, 2019, that added Huawei, the ERC determined that there is reasonable cause to believe that Huawei has been involved in activities determined to be contrary to the national security or foreign policy interests of the United States. In addition, as stated in the May 21 rule, the ERC determined that there was reasonable cause to believe that the affiliates pose a significant risk of becoming involved in activities contrary to the national security or foreign policy interests of the United States due to their relationship with Huawei. To illustrate, as set forth in the Superseding Indictment filed in the Eastern District of New York (see the rule published on May 21, 2019), Huawei participated along with certain affiliates, including one or more non-U.S. affiliates, in alleged criminal violations of U.S. law. The Superseding Indictment also alleges that Huawei and affiliates acting on Huawei's behalf engaged in a series of deceptive and obstructive acts designed to evade U.S. law and to avoid detection by U.S. law enforcement. See rule published on May 21, 2019 for additional information on this determination and the resulting additions to the Entity List.

This rule implements the decision of the ERC to add forty-six additional entities to the Entity List, with twenty-seven of the forty-six added under new, separate entries, and the other nineteen added under the existing entry for Huawei. The additions and modifications impact affiliates of Huawei in twenty-five different destinations: Argentina, Australia, Bahrain, Belarus, Belgium, Brazil, People's Republic of China (China), Costa Rica, Cuba, Denmark, France, India, Indonesia, Italy, Kazakhstan, Mexico, New Zealand, Panama, Portugal, Romania, Russia, South Africa, Sweden, Thailand, and the United Kingdom.

Pursuant to § 744.11(b), the ERC determined to add these forty-six non-U.S. affiliates of Huawei to the Entity List because they present a significant risk of acting on Huawei's behalf to engage in activities determined to be contrary to the national security or foreign policy interests of the United States. Without the imposition of a license requirement to these affiliated entities, there is reasonable cause to believe that Huawei would seek to use them to evade the restrictions imposed by its addition to the Entity List.

These additional forty-six non-U.S. affiliates of Huawei raise sufficient concern that prior review of exports, reexports, or transfers (in-country) of items subject to the EAR involving these entities, and the possible imposition of license conditions or license denials on shipments to these entities will enhance BIS's ability to prevent activities contrary to the national security or foreign policy interests of the United States.

As with the Huawei entities added to the Entity List effective May 16, 2019, BIS imposes for each of the entities added in this final rule a license requirement for all items subject to the EAR, unless the transaction is authorized by the Savings Clause in this final rule, and a license review policy of a presumption of denial. Similarly, no license exceptions are available for exports, reexports, or transfers (in-country) to the persons being added to the Entity List in this rule, except as allowed in the Savings Clause in this final rule.

The acronym “a.k.a.” (also known as) is used in entries on the Entity List to identify aliases, thereby assisting exporters, reexporters, and transferors in identifying entities on the Entity List.

This final rule adds the following twenty-seven entities in new entries to the Entity List:

Argentina

• Huawei Tech Investment Co., Ltd. Argentina.

Australia

• Huawei Technologies (Australia) Pty Ltd.

Bahrain

• Huawei Technologies Bahrain.

Belarus

• Bel Huawei Technologies LLC, including one alias (BellHuawei Technologies LLC).

China

• Hui Tong Business Ltd.;

• Shanghai HiSilicon Technologies Co., Ltd.; and

• Shenzhen HiSilicon Technologies Co., Electrical Research Center.

Costa Rica

• Huawei Technologies Costa Rica SA, including one alias (Huawei Technologies Costa Rica Sociedad Anonima).

Cuba

• Huawei Cuba.

Denmark

• Huawei Denmark.

France

• Huawei France, including one alias (Huawei Technologies France SASU).

India

• Huawei Technologies India Private Limited, including one alias (Huawei Technologies India Pvt., Ltd.).

Indonesia

• Huawei Tech Investment, PT.

Italy

• Huawei Italia; and

• Huawei Milan Research Institute.

Kazakhstan

• Huawei Technologies LLC Kazakhstan.

Mexico

• Huawei Technologies De Mexico S.A.

New Zealand

• Huawei Technologies (New Zealand) Company Limited.

Panama

• Huawei Technologies Cr Panama S.A.

Portugal

• Huawei Technology Portugal.

Romania

• Huawei Technologies Romania Co., Ltd.

Russia

• Huawei Russia.

South Africa

• Huawei Technologies South Africa Pty Ltd.

Sweden

• Huawei Sweden.

Thailand

• Huawei Technologies (Thailand) Co.

United Kingdom

• Centre for Integrated Photonics Ltd.; and

• Huawei Technologies (UK) Co., Ltd., including one alias (Huawei Software Technologies Co., Ltd.).

Modification to the Entity List

This final rule implements the decision of the ERC to modify six existing entries that were first added to the Entity List in the rule published on May 21, 2019, effective May 16, 2019. The modifications are being made to assist exporters, reexporters, and transferors to more easily identify Huawei entities that are subject to Entity List license requirements.

This final rule modifies the existing entry for Huawei Technologies Co., Ltd. (Huawei), by adding one alias, Shenzhen Huawei Technologies, and nineteen new entities (identified below) to that entry, and by moving under that entry three non-U.S. affiliates of Huawei that were added as separate entities under China in the rule published on May 21, 2019: Huawei Digital Technologies (Suzhou) Co., Ltd.; Shanghai Huawei Technologies Co., Ltd.; and Zhejiang Huawei Communications Technology Co., Ltd. This final rule modifies the existing entries for these three entities by removing them as separate entries, and adding them as affiliates under the Huawei entry. This final rule also updates the addresses of these three entities as part of their consolidation under the Huawei entry. The nineteen additional affiliates being included under the Huawei entry are as follows:

• Beijing Huawei Longshine Information Technology Co., Ltd.;

• Hangzhou New Longshine Information Technology Co., Ltd.;

• Hangzhou Huawei Communication Technology Co., Ltd.;

• Hangzhou Huawei Enterprises;

• Huawei Marine Networks Co., Ltd.;

• Huawei Mobile Technology Ltd.;

• Huawei Tech. Investment Co.;

• Huawei Technology Co., Ltd. Chengdu Research Institute;

• Huawei Technology Co., Ltd. Hangzhou Research Institute;

• Huawei Technologies Co., Ltd. Beijing Research Institute;

• Huawei Technologies Co., Ltd. Material Characterization Lab;

• Huawei Technologies Co., Ltd. Xi'an Research Institute;

• Huawei Terminal (Shenzhen) Co., Ltd.;

• Nanchang Huawei Communication Technology;

• Ningbo Huawei Computer & Net Co., Ltd.;

• Shenzhen Huawei Anjiexin Electricity Co., Ltd.;

• Shenzhen Huawei New Technology Co., Ltd.;

• Shenzhen Huawei Technology Service; and

• Shenzhen Huawei Technologies Software.

This final rule also implements the decision of the ERC to modify the existing entries for Huawei Technologies Research & Development Belgium NV and Huawei do Brasil Telecomunicacoes Ltda, which were added to the Entity List under the destinations of Belgium and Brazil, respectively, in the rule published on May 21, 2019. BIS is modifying these existing entries by updating addresses for the two entities.

Savings Clause

Shipments of items removed from eligibility for a License Exception or for export or reexport without a license (NLR) as a result of this regulatory action that were en route aboard a carrier to a port of export or reexport, on August 19, 2019, pursuant to actual orders for export or reexport to a foreign destination, may proceed to that destination under the previous eligibility for a License Exception or export or reexport without a license (NLR).

This savings clause does not apply to exports or reexports to Huawei Digital Technologies (Suzhou) Co., Ltd.; Huawei do Brasil Telecomunicacoes Ltda; Huawei Technologies Research & Development Belgium NV; Shanghai Huawei Technologies Co., Ltd.; or Zhejiang Huawei Communications Technology Co., Ltd., which were added to the Entity List in the rule published on May 21, 2019. Please see that rule for the savings clause applicable to these five entities.

Export Control Reform Act of 2018

On August 13, 2018, the President signed into law the John S. McCain National Defense Authorization Act for Fiscal Year 2019, which included the Export Control Reform Act of 2018 (ECRA). ECRA, as amended (50 U.S.C. 4801-4852), provides the legal basis for BIS's principal authorities and serves as the authority under which BIS issues this rule. As set forth in sec. 1768 of ECRA, all delegations, rules, regulations, orders, determinations, licenses, or other forms of administrative action that have been made, issued, conducted, or allowed to become effective under the Export Administration Act of 1979 (50 U.S.C. 4601 et seq.) (as in effect prior to August 13, 2018 and as continued in effect pursuant to the International Emergency Economic Powers Act (50 U.S.C. 1701 et seq.) and Executive Order 13222 of August 17, 2001, 3 CFR, 2001 Comp., p. 783 (2002), as amended by Executive Order 13637 of March 8, 2013, 78 FR 16129 (March 13, 2013), and as extended by the Notice of August 8, 2018, 83 FR 39871 (August 13, 2018)), or the Export Administration Regulations, and were in effect as of August 13, 2018, shall continue in effect according to their terms until modified, superseded, set aside, or revoked under the authority of ECRA.

Rulemaking Requirements

1. Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has been determined to be not significant for purposes of Executive Order 12866. This rule is not an Executive Order 13771 regulatory action because this rule is not significant under Executive Order 12866.

2. Notwithstanding any other provision of law, no person is required to respond to or be subject to a penalty for failure to comply with a collection of information, subject to the requirements of the Paperwork Reduction Act of 1995 (44 U.S.C. 3501 et seq.) (PRA), unless that collection of information displays a currently valid Office of Management and Budget (OMB) Control Number. This regulation involves a collection currently approved by OMB under control number 0694-0088, Simplified Network Application Processing System. This collection includes, among other things, license applications, and carries a burden estimate of 42.5 minutes for a manual or electronic submission for a total burden estimate of 31,878 hours. BIS expects the burden hours associated with this collection to increase by 283 (42.5 × 400) hours for an estimated cost increase of $8,490 ($30 × 400 hours). You may send comments regarding the collection of information associated with this rule, including suggestions for reducing the burden, to Jasmeet K. Seehra, Office of Management and Budget (OMB), by email to Jasmeet_K._Seehra@omb.eop.gov, or by fax to (202) 395-7285.

3. This rule does not contain policies with Federalism implications as that term is defined in Executive Order 13132.

4. Pursuant to Section 1762 of the Export Control Reform Act of 2018 (50 U.S.C. 4801-4852), which was included in the John S. McCain National Defense Authorization Act for Fiscal Year 2019, this action is exempt from the Administrative Procedure Act (5 U.S.C. 553) requirements for notice of proposed rulemaking, opportunity for public participation, and delay in effective date.

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required, and none has been prepared.

List of Subjects in 15 CFR Part 744

Exports, Reporting and recordkeeping requirements, Terrorism.

Accordingly, part 744 of the Export Administration Regulations (15 CFR parts 730-774) is amended as follows:

PART 744—[AMENDED]

1. The authority citation for part 744 continues to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 12947, 60 FR 5079, 3 CFR, 1995 Comp., p. 356; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of August 8, 2018, 83 FR 39871 (August 13, 2018); Notice of September 19, 2018, 83 FR 47799 (September 20, 2018); Notice of November 8, 2018, 83 FR 56253 (November 9, 2018); Notice of January 16, 2019, 84 FR 127 (January 18, 2019).

2. Supplement No. 4 to part 744 is amended:

a. By adding in alphabetical order a heading for Argentina and one Argentinean entity, “Huawei Tech Investment Co., Ltd. Argentina”.

b. By adding in alphabetical order a heading for Australia and one Australian entity, “Huawei Technologies (Australia) Pty Ltd.”.

c. By adding in alphabetical order a heading for Bahrain and one Bahraini entity, “Huawei Technologies Bahrain”.

d. Under Belarus, by adding in alphabetical order, one Belarusian entity, “Bel Huawei Technologies LLC”.

e. By revising one Belgian entity, “Huawei Technologies Research & Development Belgium NV”.

f. By revising one Brazilian entity, “Huawei do Brasil Telecomunicacoes Ltda”.

g. Under China,

i. By adding in alphabetical order, three Chinese entities, “Hui Tong Business Ltd.,” “Shanghai HiSilicon Technologies Co., Ltd.,” and “Shenzhen HiSilicon Technologies Co., Electrical Research Center”;

ii. By revising one Chinese entity, “Huawei Technologies Co., Ltd.,” and

iii. By removing three Chinese entities, “Huawei Digital Technologies (Suzhou) Co., Ltd.”, “Shanghai Huawei Technologies Co., Ltd.”, and “Zhejiang Huawei Communications Technology Co., Ltd.”;

h. By adding in alphabetical order a heading for Costa Rica and one Costa Rican entity, “Huawei Technologies Costa Rica SA”.

i. By adding in alphabetical order a heading for Cuba and one Cuban entity, “Huawei Cuba”.

j. By adding in alphabetical order a heading for Denmark and one Danish entity, “Huawei Denmark”.

k. Under France, by adding in alphabetical order, one French entity, “Huawei France”.

l. Under India, by adding in alphabetical order, one Indian entity, “Huawei Technologies India Private Limited”.

m. By adding in alphabetical order a heading for Indonesia and one Indonesian entity, “Huawei Tech Investment, PT”.

n. By adding in alphabetical order a heading for Italy and two Italian entities, “Huawei Italia”, and “Huawei Milan Research Institute”.

o. Under Kazakhstan, by adding in alphabetical order, one Kazakhstani entity, “Huawei Technologies LLC Kazakhstan”.

p. By adding in alphabetical order a heading for Mexico and one Mexican entity, “Huawei Technologies De Mexico S.A.”.

q. By adding in alphabetical order a heading for New Zealand and one New Zealander entity, “Huawei Technologies (New Zealand) Company Limited”.

r. Under Panama, by adding in alphabetical order, one Panamanian entity, “Huawei Technologies Cr Panama S.A”.

s. By adding in alphabetical order a heading for Portugal and one Portuguese entity, “Huawei Technology Portugal”.

t. Under Romania, by adding in alphabetical order, one Romanian entity, “Huawei Technologies Romania Co., Ltd.”.

u. Under Russia, by adding in alphabetical order, one Russian entity, “Huawei Russia”.

v. Under South Africa, by adding in alphabetical order, one South African entity, “Huawei Technologies South Africa Pty Ltd.”.

w. Under Sweden, by adding in alphabetical order, one Swedish entity, “Huawei Sweden”.

x. Under Thailand, by adding in alphabetical order, one Thai entity, “Huawei Technologies (Thailand) Co.”.

y. Under the United Kingdom, by adding in alphabetical order, two British entities, “Centre for Integrated Photonics Ltd.”, and “Huawei Technologies (UK) Co., Ltd.”

The additions and revisions read as follows:

Supplement No. 4 to Part 744—Entity List

* * * * *

Country | Entity | License requirement | License review policy | Federal Register citation
* * * * * * *
ARGENTINA | Huawei Tech Investment Co., Ltd. Argentina, Av. Leandro N. Alem 815, C1054 CABA, Argentina. | For all items subject to the EAR. (See § 744.11 of the EAR.) | Presumption of denial | 84 FR [INSERT FR PAGE NUMBER, 8/21/19.
* * * * * * *
AUSTRALIA | Huawei Technologies (Australia) Pty Ltd., L6 799 Pacific Hwy, Chatswood, New South Wales, 2067, Australia. | For all items subject to the EAR. (See § 744.11 of the EAR.) | Presumption of denial | 84 FR [INSERT FR PAGE NUMBER , 8/21/19.
* * * * * * *
BAHRAIN | Huawei Technologies Bahrain, Building 647 2811 Road 2811, Block 428, Muharraq, Bahrain. | For all items subject to the EAR. (See § 744.11 of the EAR.) | Presumption of denial | 84 FR [INSERT FR PAGE NUMBER , 8/21/19.
BELARUS | Bel Huawei Technologies LLC, a.k.a., the following one alias, -BellHuawei Technologies LLC. 5 Dzerzhinsky Ave., Minsk, 220036, Belarus. | For all items subject to the EAR. (See § 744.11 of the EAR.) | Presumption of denial | 84 FR [INSERT FR PAGE NUMBER , 8/21/19.
| * * * * * *
BELGIUM | Huawei Technologies Research & Development Belgium NV. Technologiepark 19, 9052 Zwijnaarde Belgium | For all items subject to the EAR. (See § 744.11 of the EAR.) | Presumption of denial | 84 FR 22963, 5/21/19. 84 FR [INSERT FR PAGE NUMBER, 8/21/19.
* * * * * * *
BRAZIL | Huawei do Brasil Telecomunicacoes Ltda, Av James Clerk Maxwell, 400 Cond. Techno Park, Campinas 13069380, Brazil. | For all items subject to the EAR. (See § 744.11 of the EAR.) | Presumption of denial | 84 FR 22963, 5/21/19.
* * * * * * *
CHINA, PEOPLE'S REPUBLIC OF | * * * * * *
| Huawei Technologies Co., Ltd., a.k.a., the following one alias, | For all items subject to the EAR. (See § 744.11 of the EAR.) | Presumption of denial | 84 FR 22963, 5/21/19.
| —Shenzhen Huawei Technologies, and to include the following addresses and the following 22 affiliated entities:
| Addresses for Huawei Technologies Co., Ltd.: Bantian Huawei Base, Longgang District, Shenzhen, 518129, China; and No. 1899 Xi Yuan Road, High-Tech West District, Chengdu, 611731; and C1, Wuhan Future City, No. 999 Gaoxin Ave., Wuhan, Hebei Province; and Banxuegang Industrial Park, Buji Longgang, Shenzhen, Guangdong, 518129, China; and R&D Center, No. 2222, Golden Bridge Road, Pu Dong District, Shanghai, China.
| Affiliated entities:
| Beijing Huawei Longshine Information Technology Co., Ltd., a.k.a., the following one alias:
| —Beijing Huawei Longshine, to include the following subordinate. Q80-3-25R, 3rd Floor, No. 3, Shangdi Information Road, Haidian District, Beijing, China.
| Hangzhou New Longshine Information Technology Co., Ltd., Room 605, No. 21, Xinba, Xiachang District, Hangzhou, China.
| Hangzhou Huawei Communication Technology Co., Ltd., Building 1, No. 410, Jianghong Road, Changhe Street, Binjiang District, Hangzhou, Zhejiang, China.
| Hangzhou Huawei Enterprises, No. 410 Jianghong Road, Building 1, Hangzhou, China.
| Huawei Digital Technologies (Suzhou) Co., Ltd., No. 328 XINHU STREET, Building A3, Suzhou (Huawei R&D Center, Building A3, Creative Industrial Park, No. 328, Xinghu Street, Suzhou), Suzhou, Jiangsu, China.
| Huawei Marine Networks Co., Ltd., a.k.a., the following one alias:—Huawei Marine. Building R4, No. 2 City Avenue, Songshan Lake Science & Tech Industry Park, Dongguan, 523808, and No. 62, Second Ave., 5/F-6/F, TEDA, MSD-B2 Area, Tianjin Economic and Technological Development Zone, Tianjin, 300457, China.
| Huawei Mobile Technology Ltd., Huawei Base, Building 2, District B, Shenzhen, China.
| Huawei Tech. Investment Co., U1 Building, No. 1899 Xiyuan Avenue, West Gaoxin District, Chengdu City, 611731, China.
| Huawei Technology Co., Ltd. Chengdu Research Institute, No. 1899, Xiyuan Ave., Hi-Tech Western District, Chengdu, Sichuan Province, 610041, China.
| Huawei Technology Co., Ltd. Hangzhou Research Institute, No. 410, Jianghong Rd., Building 4, Changhe St., Binjiang District, Hangzhou, Zhejiang Province, 310007, China.
| Huawei Technologies Co., Ltd. Beijing Research Institute, No. 3, Xinxi Rd., Huawei Building, ShangDi Information Industrial Base, Haidian District, Beijing, 100095, China; and No. 18, Muhe Rd., Building 1-4, Haidian District, Beijing, China.
| Huawei Technologies Co., Ltd. Material Characterization Lab, Huawei Base, Bantian, Shenzhen 518129, China.
| Huawei Technologies Co., Ltd. Xi'an Research Institute, National Development Bank Building (Zhicheng Building), No. 2, Gaoxin 1st Road, Xi'an High-tech Zone, Xi'an, China.
| Huawei Terminal (Shenzhen) Co., Ltd., Huawei Base, B1, Shenzhen, China.
| Nanchang Huawei Communication Technology, No. 188 Huoju Street, F10-11, Nanchang, China.
| Ningbo Huawei Computer & Net Co., Ltd., No. 48 Daliang Street, Ningbo, China.
| Shanghai Huawei Technologies Co., Ltd., R&D center, No. 2222, Golden Bridge Road, Pu Dong District, Shanghai, 286305 Shanghai, China, China.
| Shenzhen Huawei Anjiexin Electricity Co., Ltd., a.k.a., the following one alias: —Shenzhen Huawei Agisson Electric Co., Ltd. Building 2, Area B, Putian Huawei Base, Longgang District, Shenzhen, China; and Huawei Base, Building 2, District B, Shenzhen, China.
| Shenzhen Huawei New Technology Co., Ltd., Huawei Production Center, Gangtou Village, Buji Town, Longgang District, Shenzhen, China.
| Shenzhen Huawei Technology Service, Huawei Base, Building 2, District B, Shenzhen, China.
| Shenzhen Huawei Technologies Software, Huawei Base, Building 2, District B, Shenzhen, China.
| Zhejiang Huawei Communications Technology Co., Ltd., No. 360 Jiangshu Road, Building 5, Hangzhou, Zhejiang, China.
| * * * * * *
| Hui Tong Business Ltd., Huawei Base, Electrical Research Center, Shenzhen, China. | For all items subject to the EAR. (See § 744.11 of the EAR.) | Presumption of denial | 84 FR [INSERT FR PAGE NUMBER , 8/21/19.
| * * * * * *
| Shanghai HiSilicon Technologies Co., Ltd., Room 101, No. 318, Shuixiu Road, Jinze Town (Xiqi), Qingpu District, Shanghai, China. | For all items subject to the EAR. (See § 744.11 of the EAR.) | Presumption of denial | 84 FR [INSERT FR PAGE NUMBER , 8/21/19.
| * * * * * *
| Shenzhen HiSilicon Technologies Co., Electrical Research Center, Huawei Base, Shenzhen, China. | For all items subject to the EAR. (See § 744.11 of the EAR.) | Presumption of denial | 84 FR [INSERT FR PAGE NUMBER , 8/21/19.
| * * * * * *
COSTA RICA | Huawei Technologies Costa Rica SA, a.k.a., the following one alias: —Huawei Technologies Costa Rica Sociedad Anonima. | For all items subject to the EAR. (See § 744.11 of the EAR.) | Presumption of denial | 84 FR [INSERT FR PAGE NUMBER , 8/21/19.
| S.J, Sabana Norte, Detras De Burger King, Edif Gru, Po Nueva, San Jose, Costa Rica.
| * * * * * *
* * * * * * *
CUBA | Huawei Cuba, Cuba. | For all items subject to the EAR. (See § 744.11 of the EAR.) | Presumption of denial | 84 FR [INSERT FR PAGE NUMBER , 8/21/19.
* * * * * * *
DENMARK | Huawei Denmark, Vestre Teglgade 9, Kobenhavn Sv, Hovedstaden, 2450, Denmark. | For all items subject to the EAR. (See § 744.11 of the EAR.) | Presumption of denial | 84 FR [INSERT FR PAGE NUMBER , 8/21/19.
* * * * * * *
FRANCE | * * * * * *
| Huawei France, a.k.a., the following one alias: —Huawei Technologies France SASU. | For all items subject to the EAR. (See § 744.11 of the EAR.) | Presumption of denial | 84 FR [INSERT FR PAGE , 8/21/19.
| 36-38, quai du Point du Jour, 92659 Boulogne-Billancourt cedex, France.
| * * * * * *
* * * * * * *
INDIA | * * * * * *
| Huawei Technologies India Private Limited, a.k.a., the following one alias: —Huawei Technologies India Pvt., Ltd. | For all items subject to the EAR. (See § 744.11 of the EAR.) | Presumption of denial | 84 FR [INSERT FR PAGE NUMBER , 8/21/19.
| Level-3/4, Leela Galleria, The Leela Palace, No. 23, Airport Road, Bengaluru, 560008, India; and SYNO 37, 46,45/3,45/4 ETC KNO 1540, Kundalahalli Village Bengaluru Bangalore KA 560037 India.
| * * * * * *
INDONESIA | Huawei Tech Investment, PT, Bri Ii Building 20Th Floor, Suite 2005 , Jl. Jend., Sudirman Kav. 44-46, Jakarta, 10210, Indonesia. | For all items subject to the EAR. (See § 744.11 of the EAR.) | Presumption of denial | 84 FR [INSERT FR PAGE NUMBER , 8/21/19.
* * * * * * *
ITALY | Huawei Italia, Via Lorenteggio, 240, Tower A, 20147 Milan, Italy. | For all items subject to the EAR. (See § 744.11 of the EAR.) | Presumption of denial | 84 FR [INSERT FR PAGE NUMBER , 8/21/19.
| Huawei Milan Research Institute, Milan, Italy. | For all items subject to the EAR. (See § 744.11 of the EAR.) | Presumption of denial | 84 FR [INSERT FR PAGE NUMBER , 8/21/19.
* * * * * * *
KAZAKHSTAN | * * * * * *
| Huawei Technologies LLC Kazakhstan, 191 Zheltoksan St., 5th floor, 050013, Bostandyk, District of Almaty, Republic of Kazakhstan. | For all items subject to the EAR. (See § 744.11 of the EAR.) | Presumption of denial | 84 FR [INSERT FR PAGE NUMBER , 8/21/19.
| * * * * * *
* * * * * * *
MEXICO | Huawei Technologies De Mexico S.A., Avenida Santa Fé No. 440, Torre Century Plaza Piso 15, Colonia Santa Fe, Delegación Cuajimalpa de Morelos, C.P. 05348, Distrito Federal, CDMX, Mexico; and Laza Carso, Torre Falcón, Lago Zurich No. 245, Piso 18, Colonia Ampliacion Granda, Delegación Miguel Hidalgo, CDMX, Mexico. | For all items subject to the EAR. (See § 744.11 of the EAR.) | Presumption of denial | 84 FR [INSERT FR PAGE NUMBER , 8/21/19.
* * * * * * *
NEW ZEALAND | Huawei Technologies (New Zealand) Company Limited, 80 Queen Street, Auckland Central, Auckland, 1010, New Zealand. | For all items subject to the EAR. (See § 744.11 of the EAR.) | Presumption of denial | 84 FR [INSERT FR PAGE NUMBER , 8/21/19.
* * * * * * *
PANAMA | Huawei Technologies Cr Panama S.A, Ave. Paseo del Mar, Costa del Este Torre MMG, Piso 17 Ciudad de Panamá, Panama. | For all items subject to the EAR. (See § 744.11 of the EAR.) | Presumption of denial | 84 FR [INSERT FR PAGE NUMBER , 8/21/19.
| * * * * * *
* * * * * * *
PORTUGAL | Huawei Technology Portugal, Avenida Dom João II, 51B—11°.A 1990-085 Lisboa, Portugal. | For all items subject to the EAR. (See § 744.11 of the EAR.) | Presumption of denial | 84 FR [INSERT FR PAGE NUMBER , 8/219/19.
* * * * * * *
ROMANIA | Huawei Technologies Romania Co., Ltd., Ion Mihalache Blvd, No. 15-17,1st District, 9th Floor of Bucharest Tower center, Bucharest, Romania. | For all items subject to the EAR. (See § 744.11 of the EAR.) | Presumption of denial | 84 FR [INSERT FR PAGE NUMBER , 8/21/19.
| * * * * * *
RUSSIA | * * * * * *
| Huawei Russia, Business-Park “Krylatsky Hills”, 17 bldg. 2, Krylatskaya Str., Moscow 121614, Russia. | For all items subject to the EAR. (See § 744.11 of the EAR.) | Presumption of denial | 84 FR [INSERT FR PAGE NUMBER , 8/21/19.
| * * * * * *
* * * * * * *
SOUTH AFRICA | * * * * * *
| Huawei Technologies South Africa Pty Ltd., 128 Peter St Block 7 Grayston Office Park, Sandton, Gauteng, 1682, South Africa. | For all items subject to the EAR. (See § 744.11 of the EAR.) | Presumption of denial | 84 FR [INSERT FR PAGE NUMBER , 8/21/19.
| * * * * * *
* * * * * * *
SWEDEN | * * * * * *
| Huawei Sweden, Skalholtsgatan 9-11 Kista, 164 40 Stockholm, Sweden. | For all items subject to the EAR. (See § 744.11 of the EAR.) | Presumption of denial | 84 FR [INSERT FR PAGE NUMBER , 8/21/19.
* * * * * * *
THAILAND | * * * * * *
| Huawei Technologies (Thailand) Co., 87/1 Wireless Road, 19th Floor, Capital Tower, All Seasons Place, Pathumwan, Bangkok, 10330, Thailand. | For all items subject to the EAR. (See § 744.11 of the EAR.) | Presumption of denial | 84 FR [INSERT FR PAGE NUMBER , 8/21/19.
| * * * * * *
* * * * * * *
UNITED KINGDOM | * * * * * *
| Centre for Integrated Photonics Ltd., B55 Adastral Park, Phoenix House, Martlesham Heath, Ipswich, IP5 3RE United Kingdom. | For all items subject to the EAR. (See § 744.11 of the EAR.) | Presumption of denial | 84 FR [INSERT FR PAGE NUMBER , 8/21/19.
| * * * * * *
| Huawei Technologies (UK) Co., Ltd., a.k.a., the following one alias: —Huawei Software Technologies Co. Ltd. | For all items subject to the EAR. (See § 744.11 of the EAR.) | Presumption of denial | 84 FR [INSERT FR PAGE NUMBER , 8/21/19.
| 300 South Oak Way, Green Park, Reading, RG2 6UF; and 6 Mitre Passage, SE 10 0ER, United Kingdom.
| * * * * * *
* * * * * * *

Dated: August 15, 2019.
Nazak Nikakhtar,
Assistant Secretary of Industry and Analysis, International Trade Administration, Performing the Non-Exclusive Duties of the Under Secretary of Industry and Security.

[FR Doc. 2019-17921 Filed 8-19-19; 8:45 am]

BILLING CODE 3510-33-P